DEPARTMENT OF THE TREASURY

Submission for OMB Review; Comment Request

May 4, 2011.

The Department of the Treasury will submit the following public information collection requirements to OMB for review and clearance under the Paperwork Reduction Act of 1995, Public Law 104-13 on or after the date of publication of this notice. A copy of the submissions may be obtained by contacting the Treasury Departmental Office Clearance Officer listed. Comments regarding these information collections should be addressed to the OMB reviewer listed and to the Treasury PRA Clearance Officer, Department of the Treasury, 1750 Pennsylvania Avenue, NW., Suite 11010, Washington, DC 20220.

Dates: Written comments should be received on or before June 9, 2011 to be assured of consideration.

Departmental Offices, International Affairs

OMB Number: 1505-0001.

Type of Review: Revision of a currently approved collection.

Title: Purchases and Sales of Long-term Securities by Foreigners.

Form: Treasury International Capital Form S.

Abstract: Form S is required by law and is designed to collect timely information on international portfolio capital movements, including foreigners' purchases and sales of long-term securities in transactions with U.S. persons. The information will be used in the computation of the U.S. balance of payments accounts and international investment position, as well as in the formulation of U.S. international financial and monetary policies.

Respondents: Private Sector: Businesses or other for-profits.

Estimated Total Annual Burden Hours: 17,488.

OMB Number: 1505-0010.

Type of Review: Extension without change of a currently approved collection.

Title: Monthly Consolidated Foreign Currency Report of Major Market Participants.

Form: FC-2.

Abstract: Collection of information on Form FC-2 is required by law. Form FC-2 is designed to collect timely information on foreign exchange contracts purchased and sold; foreign exchange futures purchased and sold; foreign currency options and net delta equivalent value; foreign currency denominated assets and liabilities; net reported dealing positions.

Respondents: Private Sector: Businesses or other for-profits.

Estimated Total Annual Burden Hours: 950.

OMB Number: 1505-0012.

Type of Review: Extension without change of a currently approved collection.

Title: Weekly Consolidated Foreign Currency Report of Major Market Participants.

Form: FC-1.

Abstract: Collection of information on Form FC-1 is required by law. Form FC-1 is designed to collect timely information on foreign exchange spot, forward and futures purchased and sold; net options position, delta equivalent value long or short; net reported dealing position long or short.

Respondents: Private Sector: Businesses or other for-profits.

Estimated Total Annual Burden Hours: 915.

OMB Number: 1505-0014.

Type of Review: Extension without change of a currently approved collection.

Title: Quarterly Consolidated Foreign Currency Report.

Form: FC-3.

Abstract: Collection of information on Form FC-3 is required by law. Form FC-3 is designed to collect timely information on foreign exchange contracts purchased and sold; foreign exchange futures purchased and sold; foreign currency denominated assets and liabilities; foreign currency options and net delta equivalent value.

Respondents: Private Sector: Businesses or other for-profits.

Estimated Total Annual Burden Hours: 1.216.

OMB Number: 1505-0123.

Type of Review: Revision of a currently approved collection.

Title: Survey of Foreign-Residents' Holdings of U.S. Securities.

Form: SHLA Schedule-1 and -2; SHL Schedule-1 and -2.

Abstract: The survey collects information on foreign resident's holdings of U.S. securities, including selected money market instruments. The data is used in the computation of the U.S. balance of payments accounts and U.S. international investment position, in the formulation of U.S. financial and monetary policies, to satisfy 22 U.S.C. 3101, and for information on foreign portfolio investment patterns. Respondents are primarily the largest banks, securities dealers, and issuers of U.S. securities.

Respondents: Private Sector: Businesses or other for-profits.

Estimated Total Annual Burden Hours: 26,754.

Departmental Office Clearance Officer: Dwight Wolkow, DO/International Affairs, 1500 Pennsylvania Ave., NW., Rm. 5205, Washington, DC 20220; (202) 622-1276.

OMB Reviewer: Shagufta Ahmed, Office of Management and Budget, New Executive Office Building, Room 10235, Washington, DC 20503; (202) 395-7873.

Dawn D. Wolfgang,
Treasury PRA Clearance Officer.

[FR Doc. 2011-11280 Filed 5-9-11; 8:45 am]

BILLING CODE 4810-25-P